DEPARTMENT OF THE INTERIOR

Bureau of Land Management

[BLM_NV_FRN_MO#4500178000]

Notice of Intent To Amend Resource Management Plans for the Greenlink North Transmission Project, Nevada and Prepare an Associated Environmental Impact Statement

AGENCY: Bureau of Land Management, Interior.

ACTION: Notice of intent.

SUMMARY: In compliance with the National Environmental Policy Act of 1969, as amended (NEPA), and the Federal Land Policy and Management Act of 1976, as amended (FLPMA), the Bureau of Land Management (BLM) Nevada State Office intends to prepare a Resource Management Plan amendment (RMPA) with an associated Environmental Impact Statement (EIS) for the Greenlink North Transmission Project and by this notice is announcing the beginning of the scoping period to solicit public comments and identify issues, and is providing the planning criteria for public review.

DATES: The BLM requests the public submit comments concerning the scope of the analysis, potential alternatives, and identification of relevant information, and studies by April 10, 2024. To afford the BLM the opportunity to consider issues raised by commenters in the Draft RMPA/EIS, please ensure your comments are received prior to the close of the 30-day scoping period or 15 days after the last public meeting, whichever is later.

ADDRESSES: You may submit comments on issues related to the Greenlink North Transmission Project by any of the following methods:

• Website: https://eplanning.blm.gov/eplanning-ui/project/2017033/510.

• Email: blm_nv_greenlinknorth@blm.gov.

• Mail: BLM, Nevada State Office, Attn: Greenlink North Transmission Project, 1340 Financial Boulevard, Reno, NV 89502.

• Documents pertinent to this proposal may be examined online at https://eplanning.blm.gov/eplanning-ui/project/2017033/510 and at the Nevada State Office in Reno, Nevada.

FOR FURTHER INFORMATION CONTACT: Brian Buttazoni, Project Manager, telephone (775) 861-6491; address 1340 Financial Boulevard, Reno, NV 89502; email blm_nv_greenlinknorth@blm.gov. Contact us at this email address to have your name added to our mailing list. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: This document provides notice that the BLM Nevada State Director intends to prepare an RMPA/EIS for the Greenlink North Transmission Project, announces the beginning of the scoping process, seeks public input on issues and planning criteria. The plan amendments are being considered to allow the BLM to evaluate modifying restrictions on major rights-of-way (ROWs) within greater sage-grouse habitat management areas and in proximity to leks and to establish a new 235-mile utility corridor between Ely, Nevada and Yerington, Nevada, which would require amending the existing 2001 Consolidated Resource Management Plan in Carson City District, 1986 Shoshone-Eureka Resource Management Plan/Record of Decision in Battle Mountain District, and 2008 Record of Decision/Resource Management Plan in Ely District.

The planning area is located in White Pine, Eureka, Lander, Churchill, and Lyon counties and encompasses approximately 451,706 acres of BLM, U.S. Forest Service, and private lands.

The scope of this land use planning process does not include addressing the evaluation or designation of areas of critical environmental concern (ACEC), and the BLM is not considering ACEC nominations as part of this process.

Purpose and Need

The BLM's preliminary purpose and need for this Federal action is to respond to the ROW application submitted by NV Energy under Title V of FLPMA (43 U.S.C. 1761) on July 20, 2020, to construct, operate, and decommission a proposed system of new 525-kV, 345-kV, 230-kV, and 120-kV electric transmission facilities on BLM-administered lands in White Pine, Eureka, Lander, Churchill, and Lyon counties, in compliance with FLPMA, BLM ROW regulations, the BLM NEPA Handbook (BLM 2008), U.S. Department of the Interior NEPA regulations, and other applicable Federal and State laws and policies. In accordance with FLPMA, public lands are to be managed for multiple uses considering the long-term needs of future generations for renewable and non-renewable resources. The BLM is authorized to grant ROWs on public lands for systems of generation, transmission, and distribution of electrical energy (FLPMA section 501(a)(4)). The U.S. Forest Service, Humboldt-Toiyabe National Forest also received an application from NV Energy for an approximately 10-mile segment of the project. The Forest Service's purpose and need is to respond to NV Energy's application for a Special Use Permit to construct, operate, maintain, and decommission the proposed 500-kV transmission line on National Forest System land in Lander County in compliance with FLPMA, the National Forest Management Act (16 U.S.C. 1601-1614), and the Toiyabe National Forest Land and Resource Management Plan (Forest Service 1986 as amended), which provides standards and guidelines for managing the National Forest.

The BLM has also determined that it will evaluate the need for RMPAs for this Project, and as a result the document will be a combined RMPA/EIS following the requirements of the BLM's land use planning regulations. Accordingly, the BLM will consider whether to amend the 2001 Consolidated Resource Management Plan in Carson City District, 1986 Shoshone-Eureka Resource Management Plan/Record of Decision in Battle Mountain District, and 2008 Record of Decision/Resource Management Plan in Ely District within the proposed Project area to establish a new 235-mile long utility corridor between Ely and Yerington, Nevada, and modify restrictions on major ROWs for transmission lines greater than 100 kV currently in place under the 2015 Greater Sage Grouse RMPA, including its designation of habitat management areas as avoidance areas for major ROWs and restrictions on proximity to greater sage-grouse leks.

Preliminary Proposed Action and Alternatives

The Proposed Action is to construct, operate, maintain, and decommission a proposed system of new 525-kV, 345-kV, 230-kV, and 120-kV electric transmission facilities on approximately 1,394 acres of BLM administered lands. During the original scoping period completed in 2023 several alternatives were presented to the BLM to consider to avoid placement of this project along U.S. Highway 50 and to avoid greater sage-grouse habitat management areas.

Under the No Action Alternative, the BLM and U.S. Forest Service would not issue a ROW grant or special use permit for the construction, operation, maintenance, and decommissioning of a proposed system of new 525-kV, 345-kV, 230-kV, and 120-kV electric transmission facilities. The proposed Project would not be constructed, and existing land uses in the project area would continue.

The BLM welcomes comments on all preliminary alternatives as well as suggestions for additional alternatives.

Planning Criteria

The planning criteria guides the planning effort and lays the groundwork for effects analysis by identifying the preliminary issues and their analytical frameworks. Preliminary issues for the planning area have been identified by BLM personnel and from engagement with Federal, State, and local agencies; Tribes; and stakeholders. The BLM has identified 14 preliminary issues for this planning effort's analysis. The planning criteria are available for public review and comment at the project website: https://eplanning.blm.gov/eplanning-ui/project/2017033/510.

Summary of Expected Impacts

The BLM will evaluate the beneficial or adverse short- and long-term impacts from the alternatives utilizing issue-based NEPA analysis for air resources; soil resources; wildlife and special status species; vegetation, including noxious and invasive species; cultural resources; Native American religious concerns; socioeconomics; environmental justice; recreation and access; visual resources; lands and realty; livestock grazing authorizations; and wild horses.

Anticipated Permits and Authorizations

Along with a BLM ROW grant as required under 43 CFR 2801.9, NV Energy anticipates needing additional permits for the proposed project: a Nevada Public Utilities Commission Permit to Construct; Nevada Division of Water Resources water rights modification permits; and other permits, as necessary. A portion of the Project would occur on National Forest System land, which would require a special use permit for the Project. The U.S. Forest Service would rely on the analysis contained in the EIS to make a decision whether or not to issue a special use permit and under what conditions. Further details on these permitting requirements may be found in the Preliminary Plan of Development, which is available on the project website at: https://eplanning.blm.gov/eplanning-ui/admin/project/2017033/510.

Schedule for the Decision-Making Process

The BLM will provide additional opportunities for public participation consistent with the NEPA and land use planning processes, including a 90-day comment period on the Draft RMPA/EIS, and a concurrent 30-day public protest period and 60-day Governor's consistency review on the Proposed RMPA. The Draft RMPA/EIS is anticipated to be available for public review in the summer of 2024 and the Final RMPA/EIS is anticipated to be available for public protest of the Proposed RMPAs in the winter 2025, with Approved RMPAs and a Record of Decision in late spring or early summer of 2025.

Public Scoping Process

This notice of intent initiates a new scoping period and public review of the planning criteria, which guide the development and analysis of the Draft RMPA/EIS. Between May 26, 2023 and July 19, 2023 the BLM completed a 45-day scoping period that included a combination of virtual and in-person meetings. While the Project has not changed, the BLM has determined that several plan amendments will need to be evaluated, and therefore the BLM is initiating a second scoping period disclosing the nature of the plan amendments that would be evaluated in the upcoming EIS/RMPA.

The BLM will be holding at least one virtual meeting. The date and Zoom link for the virtual meeting will be announced at least 15 days in advance through the project website at: https://eplanning.blm.gov/eplanning-ui/project/2017033/510.

Lead and Cooperating Agencies

The BLM Nevada State Office is the lead Federal agency for this EIS. In January 2022 the BLM invited approximately 35 Federal, State and county agencies, and Tribes to become Cooperating Agencies for the Project. Cooperating Agencies participating in meetings and the environmental analysis of the Project include: Department of the Air Force, U.S. Forest Service, U.S. Environmental Protection Agency Region 9, U.S. Fish and Wildlife Service, Nevada Department of Transportation, Duckwater Shoshone Tribe, Fallon Paiute-Shoshone Tribe, Pyramid Lake Paiute Tribe, Walker River Paiute Tribe, Yomba Shoshone Tribe, Nevada Department of Agriculture, Nevada Department of Wildlife, Nevada Department of Conservation & Natural Resources, Nevada Division of Minerals, Churchill County, White Pine County, Lyon County, Eureka County, and Lander County.

Responsible Official

The Nevada State Director is the deciding official for the proposed Greenlink North Transmission Project on BLM administered land and the Forest Supervisor of the Humboldt-Toiyabe National Forest is the deciding official on National Forest System land.

Nature of Decision To Be Made

The nature of the decision to be made is the State Director's selection of land use planning decisions pursuant to this RMPA for managing BLM-administered lands under the principles of multiple use and sustained yield in a manner that best addresses the purpose and need.

The BLM will decide whether to grant, grant with conditions, or deny the ROW application. Pursuant to 43 CFR 2805.10, if the BLM issues a ROW, the BLM decision may include terms, conditions, and stipulations determined to be in the public interest. The BLM will make the decision as to whether or not to approve any plan amendments in accordance with BLM policy about delegation of authorities. In the ROD, the BLM will clearly distinguish the RMPA decisions from the selected alternative for the Project.

The Forest Service will decide whether to issue a special use permit to construct, operate, maintain, and decommission the proposed facilities on National Forest System land and, if so, under what terms and conditions.

Forest Service Administrative Review Process

The decision that the USDA Forest Service will make is subject to a pre-decisional administrative review process, also known as an objection process (36 CFR 218, subparts A and B). The objection process provides an opportunity for members of the public who have participated in the planning process for the action to have any unresolved concerns reviewed by the USDA Forest Service prior to a final decision by the Responsible Official.

Comments should be provided prior to the close of the comment period and should clearly articulate the reviewer's concerns and contentions. Commenting during scoping and any other designated opportunity to comment provided by the Responsible Official as prescribed by the applicable regulations will also govern eligibility to object once the final EIS and draft Record of Decision has been published. Comments submitted anonymously will be accepted and considered; however, they will not be used to establish eligibility for the objection process.

Objections will be accepted only from those who have previously submitted specific written comments regarding the proposed project during scoping or other designated opportunity for public comment in accordance with 36 CFR 218.5(a). Issues raised in objections must be based on previously submitted timely, specific written comments regarding the proposed project unless based on new information arising after designated opportunities.

Interdisciplinary Team

The BLM will use an interdisciplinary approach to develop the RMPA/EIS in order to consider the variety of resource issues and concerns identified. Specialists with expertise in the following disciplines will be involved in this process: air resources, archaeology, vegetation, environmental justice, mineral resources and soils, hydrology, groundwater, invasive/non-native species, lands and realty, paleontology, rangelands, wild horses, recreation and access, socioeconomics, soils, visual resources, and wildlife.

Additional Information

The BLM will identify, analyze, and consider mitigation to address the reasonably foreseeable impacts to resources from the Proposed Action and all analyzed reasonable alternatives and, in accordance with 40 CFR 1502.14(e), include appropriate mitigation measures not already included in the proposed plan amendment or alternatives. Mitigation may include avoidance, minimization, rectification, reduction or elimination over time, and compensation and may be considered at multiple scales, including the landscape scale.

The BLM will utilize and coordinate the NEPA and land use planning processes for this Project to help support compliance with applicable procedural requirements under the Endangered Species Act (16 U.S.C. 1536) and section 106 of the National Historic Preservation Act (54 U.S.C. 306108) as provided in 36 CFR 800.2(d)(3), including public involvement requirements of Section 106. Information about historic and cultural resources and threatened and endangered species within the area potentially affected by the RMPAs will assist the BLM in identifying and evaluating impacts to such resources.

The BLM will consult with The Confederated Tribes of the Goshute Reservation, Duckwater Shoshone Tribe, Ely Shoshone Tribe, Fallon Paiute-Shoshone Tribe, Fort McDermitt Paiute and Shoshone Tribe, Lovelock Paiute Tribe, Moapa Band of Paiutes, Pahrump Paiute Tribe, Pyramid Lake Paiute Tribe, Reno-Sparks Indian Colony, Shoshone-Bannock Tribes, Shoshone-Paiute Tribes of Duck Valley, Summit Lake Paiute Tribe, Susanville Indian Rancheria, Te-Moak Tribe of Western Shoshone, Te-Moak Tribe-Battle Mountain Band, Te-Moak Tribe-Elko Band, Te-Moak Tribe-South Fork Band, Te-Moak Tribe-Wells Band, Timbisha Shoshone Tribe, Walker River Paiute Tribe, Washoe Tribe of Nevada and California, Winnemucca Indian Colony, Winnemucca Indian Colony, Yerington Paiute Tribe, and Yomba Shoshone Tribe on a government-to-government basis in accordance with Executive Order 13175, BLM MS 1780, and other Departmental policies. Tribal concerns, including impacts on Indian trust assets and potential impacts to cultural resources, will be given due consideration.

Before including your address, phone number, email address, or other personal identifying information in your comment, you should be aware that your entire comment—including your personal identifying information—may be made publicly available at any time. While you can ask us in your comment to withhold your personal identifying information from public review, we cannot guarantee that we will be able to do so.

(Authority: 40 CFR 1501.7, 43 CFR 1610.2, and 43 CFR part 2800)

Jon K. Raby,
State Director.

[FR Doc. 2024-05071 Filed 3-8-24; 8:45 am]

BILLING CODE 4331-21-P